INTER-AMERICAN FOUNDATION

Sunshine Act Meetings

TIME AND DATE: September 6, 2017, 11:00 a.m.-12:00 p.m.

PLACE: Via tele-conference hosted at Inter-American Foundation, 1331 Pennsylvania Ave. Suite 1200, NW., Washington, DC 20004.

STATUS: Meeting of the Board of Directors, Open to the public.

MATTERS TO BE CONSIDERED: Next steps for updating advisory council membership.

The role of the Board in funding decisions.

FOR DIAL-IN INFORMATION CONTACT: Karen Vargas, Executive Assistant, (202) 524-8869.

CONTACT PERSON FOR MORE INFORMATION: Paul Zimmerman, General Counsel, (202) 683-7118.

Paul Zimmerman,
General Counsel.

[FR Doc. 2017-18263 Filed 8-24-17; 4:15 pm]

BILLING CODE 7025-01-P